DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the Fiscal Year 2011 program by the Prune Bargaining Association on behalf of prune and dried plum producers in California. The Administrator will determine within 40 days whether increasing imports of prunes and dried plums contributed importantly to a greater than 15-percent decrease in the average annual price of prunes and dried plums compared to the average of the three preceding marketing years. If the determination is affirmative, producers who produce and market prunes and dried plums in California will be eligible to apply to the Farm Service Agency for free technical assistance and cash benefits.

FOR FURTHER INFORMATION CONTACT: Trade Adjustment Assistance for Farmers Program Staff, FAS, USDA by phone: (202) 720-0638 or (202) 690-0633; or by e-mail at: tradeadjustment@fas.usda.gov; or visit the TAA for Farmers' Web site: http://www.fas.usda.gov/itp/taa.

Dated: July 30, 2010.
John D. Brewer,
Administrator, Foreign Agricultural Service.

[FR Doc. 2010-19791 Filed 8-10-10; 8:45 am]

BILLING CODE 3410-10-P